DEPARTMENT OF ENERGY

Federal Energy Regulatory Commission

[Docket No. OR09-12-000]

BP West Coast Products LLC, Complainant v. SFPP, L.P. Respondent; Notice of Complaint

June 17, 2009.

Take notice that on June 15, 2009, BP West Coast Products LLC (“BP”) filed a formal complaint against SFPP, L.P. (“SFPP”) pursuant to sections 1(5), 8, 9, 13, 15, and 16 of the Interstate Commerce Act, 49 U.S.C. App. 1(5), 8, 9, 13, 15, and 16 (1988), section 1803 of the Energy Policy Act of 1992, and section 343.2 and Rule 206 of the Commission's Regulations, 18 CFR 343.2 and 385.206, seeking an audit of SFPP's 2007 and 2008 FERC Form 6 in connection with SFPP's 2009 index rate increases to become effective July 1, 2009. BP requests that the Commission review and audit the underlying components of Page 700 of SFPP's FERC Forms 6 for 2007 and 2008.

BP certifies that copies of the complaint were served on both counsel for SFPP and the contacts for SFPP listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 6, 2009.

Kimberly D. Bose,
Secretary.

[FR Doc. E9-14792 Filed 6-23-09; 8:45 am]

BILLING CODE 6717-01-P